DEPARTMENT OF TRANSPORTATION

Federal Railroad Administration

Petition for Waiver of Compliance

In accordance with Part 211 of Title 49 Code of Federal Regulations (CFR), notice is hereby given that the Federal Railroad Administration (FRA) has received a request for temporary waiver of compliance with certain requirements of its safety standards. The individual petition is described below, including the party seeking relief, the regulatory provisions involved, and the nature of the relief being requested.

Alaska Railroad Corporation

[Waiver Petition Docket Number FRA-2006-26029]

In September 2006, the Alaska Railroad Corporation (ARRC) submitted a temporary waiver petition to support field testing of its processor-based train control system, identified as Collision Avoidance System (CAS), pursuant to 49 CFR 211.7 and 211.51. The regulatory relief sought by ARRC was for development testing and demonstration purposes only. This waiver request was conditionally approved by FRA on February 22, 2007. All information submitted in conjunction with ARRC's previous waiver petition can be found in Docket Number FRA-2006-26029.

ARRC has now submitted a new waiver petition requesting modification to the previously approved regulatory relief. In the petition, ARRC specifically seeks relief from the following regulations:

1. Regulatory relief from 49 CFR 236.514 (Interconnection of cab signal system with roadway signal system); and

2. Modification to the previously approved regulatory relief from 49 CFR 236.11 (Adjustment, repair, or replacement of component) to specifically exempt the wayside interface that was installed to support CAS.

Interested parties are invited to provide written views, data, or comments pertinent to FRA's consideration of the ARRC's request for waiver of compliance. All communications concerning this petition should identify the appropriate docket number (Docket Number FRA-2006-26029) and may be submitted by one of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA prior to final action being taken. Comments received after this period will be considered to the extent practicable. All written communications concerning these proceedings are available for examination during regular business hours (9 a.m.-5 p.m.) at the DOT Docket Management Facility, 1200 New Jersey Avenue, SE., Room W12-140, in Washington, DC. All documents in the public docket are also available for inspection and copying on the Internet at http://www.regulations.gov.

Anyone is able to search the electronic form of any written communications and comments received into any of our dockets by name of the individual submitting the comment (or signing the comment, if submitted on behalf of an association, business, labor union, etc.). You may review the DOT's complete Privacy Act Statement in the Federal Register published on April 11, 2000 (Volume 65, Number 70; Pages 19477-78).

Issued in Washington, DC, on September 3, 2008.
Grady C. Cothen, Jr.,
Deputy Associate Administrator for Safety Standards and Program Development.

[FR Doc. E8-20855 Filed 9-8-08; 8:45 am]

BILLING CODE 4910-06-P